DEPARTMENT OF THE INTERIOR

National Park Service

[NPS-WASO-NAGPRA-NPS0038745; PPWOCRADN0-PCU00RP14.R50000]

Notice of Intended Disposition: U.S. Department of the Interior, Bureau of Reclamation, Missouri Basin Region, Nebraska-Kansas Area Office, McCook, NE

AGENCY: National Park Service, Interior.

ACTION: Notice.

SUMMARY: In accordance with the Native American Graves Protection and Repatriation Act (NAGPRA), the U.S. Department of the Interior, Bureau of Reclamation, Nebraska-Kansas Area Office (Reclamation Nebraska-Kansas Area Office) intends to carry out the disposition of human remains and associated funerary objects removed from Federal or Tribal lands to the lineal descendants, Indian Tribe, or Native Hawaiian organization with priority for disposition in this notice.

DATES: Disposition of the human remains and cultural items in this notice may occur on or after October 21, 2024. If no claim for disposition is received by September 22, 2025, the human remains and cultural items in this notice will become unclaimed human remains and cultural items.

ADDRESSES: Send written claims for disposition of the human remains and cultural items identified in this notice to Catherine Griffin, Bureau of Reclamation, Nebraska-Kansas Area Office, 1706 West 3rd Street, McCook, NE 69001, telephone (308) 345-8324, email cgriffin@usbr.gov.

SUPPLEMENTARY INFORMATION: This notice is published as part of the National Park Service's administrative responsibilities under NAGPRA. The determinations in this notice are the sole responsibility of the Reclamation Nebraska-Kansas Area Office, and additional information on the human remains and cultural items in this notice, including the results of consultation, can be found in the related records. The National Park Service is not responsible for the identifications in this notice.

Abstract of Information Available

Based on the information available, human remains representing, at least, 14 individuals have been reasonably identified. The 10 associated funerary objects are one lot of bracelets, three lots of ceramic sherds, one lot of chipped stone debitage, two stone scraper tools, one stone tool fragment, one projectile point fragment, and one lot of animal bone. During a period between 1992 to 2020, the human remains and associated funerary objects were discovered and removed from federal lands in Jewell, Mitchell, and Norton Counties, KS, and Frontier and Greeley Counties, NE.

Determinations

The Reclamation Nebraska-Kansas Area Office has determined that:

• The human remains described in this notice represent the physical remains of 14 individuals of Native American ancestry.

• The 10 objects described in this notice are reasonably believed to have been placed intentionally with or near individual human remains at the time of death or later as part of the death rite or ceremony.

• The Pawnee Nation of Oklahoma; Three Affiliated Tribes of the Fort Berthold Reservation, North Dakota; and the Wichita and Affiliated Tribes (Wichita, Keechi, Waco, & Tawakonie), Oklahoma have priority for disposition of the human remains and cultural items described in this notice.

Claims for Disposition

Written claims for disposition of the human remains and cultural items in this notice must be sent to the appropriate official identified in this notice under ADDRESSES. If no claim for disposition is received by September 22, 2025, the human remains and cultural items in this notice will become unclaimed human remains and cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and cultural items in this notice may occur on or after October 21, 2024. If competing claims for disposition are received, the Reclamation Nebraska-Kansas Area Office must determine the most appropriate claimant prior to disposition. Requests for joint disposition of the human remains and cultural items are considered a single request and not competing requests. The Reclamation Nebraska-Kansas Area Office is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: September 12, 2024.
Melanie O'Brien,
Manager, National NAGPRA Program.

[FR Doc. 2024-21545 Filed 9-19-24; 8:45 am]

BILLING CODE 4312-52-P